DEPARTMENT OF THE INTERIOR

Bureau of Land Management

[LLUT020000-10-L13110000-EJ0000-24-1A]

West Tavaputs Plateau Road Restriction Order, Utah

AGENCY: Bureau of Land Management, Interior.

ACTION: Notice of restrictions.

SUMMARY: This notice is to inform the public that the Bureau of Land Management (BLM) is restricting the use of certain roads in the Price Field Office, Utah, as follows: The public is prohibited from driving a motorized vehicle on Horse Bench, Jack Canyon, Jack Ridge, and Cedar Ridge Roads on the West Tavaputs Plateau in Carbon County, Utah, unless specifically authorized by the BLM to do so.

DATES: The Road Restriction Order is effective upon publication of this notice in the Federal Register and will remain in effect until further notice.

ADDRESSES: Copies of this road restriction order are available and posted at the Price Field Office, Bureau of Land Management, 125 South 400 West, Price, Utah 84501, or via the Internet at http://www.blm.gov/ut/st/en/fo/price.html.

FOR FURTHER INFORMATION CONTACT: Don Stephens, Natural Resource Specialist, telephone (435) 636-3608; address 125 South 600 West, Price, Utah 84501; e-mail Don_Stephens@blm.gov. Persons who use a telecommunications device for the deaf (TDD), may call the Federal Information Relay Service (FIRS) at 1-800-877-8339 to contact the above individual during normal business hours. The FIRS is available 24 hours a day, 7 days a week, to leave a message or question with the above individual. You will receive a reply during normal business hours.

SUPPLEMENTARY INFORMATION: Four roads (Horse Bench, Jack Canyon, Jack Ridge, and Cedar Ridge), totaling approximately 41 miles, are hereby restricted to authorized use only. Horse Bench, Jack Canyon, Jack Ridge, and Cedar Ridge Roads in Carbon County, Utah, located in the following lands:

Horse Bench Road

Salt Lake Meridian, Utah

T. 11 S., R. 18 E., sec. 27, SE¼SE¼; sec. 33, S½SE¼; sec. 34, N½NE¼, SW¼NE¼, and SW¼.

Salt Lake Meridian, Utah

T. 12 S., R. 18 E., sec. 4, lots 1 to 4, inclusive; sec. 5, lots 1 to 4, inclusive; sec. 6, lots 1 to 3, inclusive, and NW¼SW¼.

T. 12 S., R. 17 E., sec. 1, SE¼SW¼, S½SE¼, and NE¼SE¼; sec. 9, S½SE¼ and SE¼SW¼; sec. 10, S½; sec. 11, SE¼NE¼, N½SW¼, and N½SE¼; sec. 12, NW¼; sec. 17, N½NE¼, SW¼NE¼, SE¼NW¼, N½SW¼, and SW¼SW¼; sec. 18, S½SE¼ and SE¼SW¼; sec. 19, lot 1, and NE¼NW¼.

T. 12 S., R. 16 E., sec. 23, NE¼SE¼ and S½SE¼; sec. 24, NE¼, SE¼NW¼, and N½SW¼; sec. 26, lots 2, 3, and 7, SE¼NW¼ and NE¼SW¼; sec. 27, SE¼SE¼.

Cedar Ridge Road

Salt Lake Meridian, Utah

T. 13 S., R. 17 E., sec. 8, S½SW¼; sec. 17, NW¼NW¼; sec. 18, lots 2 to 4, inclusive, N½NE¼, and E½NW¼; sec. 19, lot 1, N½N½; sec. 20, NW¼, NE¼SW¼, W½SE¼, and SE¼SE¼; sec. 21, S½S½.

T. 13 S., R. 16 E., sec. 13, S½; sec. 22, SE¼SE¼; sec. 23, N½NE¼, SW¼NE¼, N½SW¼, and SW¼SW¼; sec. 24, NW¼NW¼; sec. 27, N½NE¼, E½NW¼, NW¼NW¼, and NW¼SW¼; sec. 28, E½SE¼, SW¼SE¼, and SE¼SW¼; sec. 33, N½NW¼.

Jack Ridge Road

Salt Lake Meridian, Utah

T. 13 S., R. 16 E., sec. 8, NE¼; sec. 9, SE¼NE¼, SW¼NW¼, and N½S½; sec. 10, lot 1, NW¼NE¼, SW¼NE¼, and S½NW¼; sec. 11, lot 2, W½NE¼ and N½NW¼; sec. 12, S½NW¼.

Jack Canyon Road

Salt Lake Meridian, Utah

T. 13 S., R. 17 E., sec. 5, SE¼SW¼; sec. 7, lot 3, S½NE¼, SE¼NW¼, and NE¼SW¼; sec. 8, NW¼.

T. 13 S., R. 16 E., sec. 1, SW¼SW¼; sec. 3, lots 3 to 5, inclusive, SE¼SW¼ and S½SE¼; sec. 12, NE¼, N½NW¼, and NE¼SE¼.

T. 12 S., R. 16 E., sec. 34, SW¼SW¼.

These areas are located on the West Tavaputs Plateau approximately 30 miles east-northeast of Price, Utah. Analysis of the road restrictions was included in the West Tavaputs Natural Gas Full Field Development Plan Final Environmental Impact Statement (EIS). The reasons for the road restrictions are discussed in detail within the Record of Decision (ROD) for that EIS, which was signed on July 2, 2010. Restricting the motorized use of these roads is in conformance with the 2008 Price Field Office Approved Resource Management Plan (RMP).

In order to reflect the decision to restrict motorized travel on the four roads, the Travel Management Plan Map (Map R-18) implemented as part of the ROD for the Price RMP will be modified at the time the road restriction order takes effect.

On all public lands, under Section 303(a) of the Federal Land Policy and Management Act of 1976, 43 U.S.C. 1733(a), 43 CFR 8360.0-7, 43 CFR 9260.0-7, and 43 CFR 8364.1, the BLM will enforce this road restriction order for Cedar Ridge, Jack Ridge, Jack Canyon, and Jack Ridge roads.

Persons who are exempt from the restriction include:

(a) Any Federal, State, or local officers engaged in fire, emergency, or law enforcement activities;

(b) BLM employees engaged in official duties; and

(c) Authorized persons or their designees for purposes specifically authorized by the BLM to access the restricted roads.

Penalties: Any person who violates these restrictions may be tried before a United States Magistrate and fined no more than $1,000 or imprisoned for no more than 12 months, or both. Such violations may also be subject to the enhanced fines provided for by 18 U.S.C. 3571.

This Road Restriction Order does not adjudicate or determine the validity of any claimed right under Revised Statute (R.S.) 2477. Nothing in this Road Restriction Order alters or extinguishes any valid R.S. 2477 right that the county or individuals may have, or their right to assert and protect R.S. 2477 rights, and to challenge in Federal court or other appropriate venue any restrictions that they believe are inconsistent with their rights.

Authority: 43 CFR 8364.1.

Jeff Rawson,
Associate State Director.

[FR Doc. 2011-7723 Filed 3-31-11; 8:45 am]

BILLING CODE 4310-DQ-P